DEPARTMENT OF ENERGY

Federal Energy Regulatory Commission

[Docket No. EL05-58-000]

ConocoPhillips Company, and Equilon Enterprises LLC d/b/a/ Shell Oil Products U.S., Complainant, v. Los Angeles Department of Water and Power, Respondent; Notice of Complaint

January 27, 2005.

Take notice that on January 26, 2005, ConocoPhillips Company and Equilon Enterprises LLC d/b/a/ Shell Oil Products US (collectively, Complainants) filed a formal complaint against Los Angeles Department of Water and Power (LADWP) pursuant to 16 U.S.C. alleging that LADWP has instituted rates for standby service which are unjust and unreasonable under section 206 and under the Public Utility Regulatory Policies Act of 1978.

The Complainants state that copies of the complaint were served on the General Manager of LADWP.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: February 16, 2005.

Linda Mitry,
Deputy Secretary.

[FR Doc. E5-404 Filed 2-2-05; 8:45 am]

BILLING CODE 6717-01-P